DEPARTMENT OF ENERGY

Federal Energy Regulatory Commission

[Docket No. RP00-63-004]

Great Lakes Gas Transmission Limited Partnership; Notice of Rate Schedule LFT Activity Report

July 5, 2002.

Take notice that on June 27, 2002, Great Lakes Gas Transmission Limited Partnership (Great Lakes) tendered for filing a report to provide its first year of operating experience under Rate Schedule LFT.

Great Lakes states that the filing is submitted in compliance with the Commission's order in Docket No. RP00-63-002 dated April 27, 2001. 95 FERC ¶ 61,142 (2001). Great Lakes reports that it did not enter into any contracts for Rate Schedule LFT service nor did it provide any LFT service during the period April 30, 2001 through April 29, 2002.

Great Lakes indicates that the filing was served on all parties to the official service list in this proceeding.

Any person desiring to protest said filing should file a protest with the Federal Energy Regulatory Commission, 888 First Street, NE., Washington, DC 20426, in accordance with Section 385.211 of the Commission's Rules and Regulations. All such protests must be filed on or before July 12, 2002. Protests will be considered by the Commission in determining the appropriate action to be taken, but will not serve to make protestants parties to the proceedings. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

Magalie R. Salas,
Secretary.

[FR Doc. 02-17444 Filed 7-10-02; 8:45 am]

BILLING CODE 6717-01-P